DEPARTMENT OF HEALTH AND HUMAN SERVICES

Centers for Disease Control and Prevention

[30Day-07-0242X]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Estimating the Cost of Sigmoidoscopy and Colonoscopy for Colorectal Cancer Screening in U.S. Healthcare Facilities (SECOST) —New—National Center for Chronic Disease and Public Health Promotion (NCDDPHP), Centers for Disease Control and Prevention (CDC).

Background and Brief Description

Colorectal cancer (CRC) is the second leading cause of cancer-related deaths in the United States. In 2005, it was estimated that approximately 56,300 Americans died from CRC and about 145,300 new cases were diagnosed. The risk of developing CRC increases with advancing age. More than 90% of newly diagnosed CRCs occur in persons 50 years of age and older. Several scientific studies have demonstrated that regular screening for CRC reduces the incidence and mortality from this disease. Other studies have shown that regular screening for CRC is also cost-effective in terms of years of life saved.

Despite strong scientific evidence and evidence-based clinical guidelines recommending screening, current screening rates remain low. A recent CDC study reported that more than 40 million Americans who are 50 years of age or older and at average risk for CRC have not been screened in accordance with current guidelines. The study also reported that screening this population with current endoscopic (i.e., flexible sigmoidoscopy and colonoscopy) capacity in the health care system could require as much as ten years to complete. An effective national effort to promote CRC screening could increase the demand for endoscopic procedures.

It has been reported that reimbursements for endoscopic procedures in publicly-funded programs may not be adequate to cover the costs of performing these procedures. This may be a disincentive for providers to perform endoscopy procedures. Currently, there is little information available about the resources required or the cost of providing these procedures in different types of healthcare facilities in the United States.

The purpose of this project is to conduct a survey of a nationally representative sample of healthcare facilities in order to estimate the average variable costs of providing colonoscopy and flexible sigmoidoscopy for CRC screening and follow-up services. Over time, payments need to cover fixed costs in addition to variable costs. If some facilities have the ability to provide more procedures without additional investment in space or equipment, then recovering fixed costs is not necessary at least in the short run. The estimated average variable cost by procedure will be compared to the reimbursement rates for both screening procedures in order to determine whether the payments to facilities exceed this minimum threshold. Otherwise, facilities will find reimbursement a potential barrier to expansion of CRC screening to uninsured or underinsured populations even if there is underutilized capacity. The study will also determine whether there are factors that affect average variable costs across facilities such as the number of procedures performed, specialization in types of procedures or other characteristics of the facility. Results of this study will be used to better understand the economics of colorectal cancer screening.

Respondents include medical facility receptionists, hospital operators, and office/business managers. The total estimated cost to respondents is approximately $72,800 assuming an hourly wage of $37 for office/business managers and an hourly wage of $11 for others during the study period. There are no costs to the respondents other than their time. The total estimated annualized burden hours are 2072.

¹ We expect that we will have to make 4,160 screening telephone calls to identify a sample of 1,250 HOPDs and 906 ASCs that are eligible for inclusion in the study.

Estimated Annualized Burden Hours
Type of respondent | Form name | Number of respondents | Number of responses per respondent | Average burden per response (in hours)
Receptionist | Telephone screening survey | ¹ 4,160 | 1 | 5/60
OPHD nurse manager | SECOST mail survey | 1,000 | 1 | 1
ASC nurse manager | SECOST mail survey | 725 | 1 | 1

Dated: February 16, 2007.
Joan F. Karr,
Acting Reports Clearance Officer, Centers for Disease Control and Prevention.

[FR Doc. E7-3099 Filed 2-22-07; 8:45 am]

BILLING CODE 4163-18-P